DEPARTMENT OF COMMERCE

Foreign-Trade Zones Board

[Order No. 1847]

Reorganization and Expansion of Foreign-Trade Zone 87 Lake Charles, LA

Pursuant to its authority under the Foreign-Trade Zones Act of June 18, 1934, as amended (19 U.S.C. 81a-81u), the Foreign-Trade Zones Board (the Board) adopts the following Order:

Whereas, the Lake Charles Harbor & Terminal District, grantee of Foreign-Trade Zone 87, submitted an application to the Board for authority to reorganize and expand FTZ 87 in Lake Charles, Louisiana, to reduce acreage at Site 1 (new acreage—41.10 acres), expand Site 2 (new acreage—391.73 acres), remove Site 4, reduce acreage at Site 5 (new acreage—365.26 acres), and remove a parcel and add additional acreage to Site 6 (new acreage—1628.27 acres), within the Lake Charles U.S. Customs and Border Protection port of entry (FTZ Docket 71-2011, filed November 8, 2011);

Whereas, notice inviting public comment has been given in the Federal Register (76 FR 70704, 11/15/2011) and the application has been processed pursuant to the FTZ Act and the Board's regulations; and,

Whereas, the Board adopts the findings and recommendations of the examiner's report, and finds that the requirements of the FTZ Act and the Board's regulations are satisfied, and that the proposal is in the public interest;

Now, therefore, the Board hereby orders:

The application to reorganize and expand FTZ 87 is approved, subject to the FTZ Act and the Board's regulations, including Section 400.13, and further subject to the Board's standard 2,000-acre activation limit.

Signed at Washington, DC, this August 17, 2012.
Ronald K. Lorentzen,
Acting Assistant Secretary of Commerce, for Import Administration, Alternate Chairman, Foreign-Trade Zones Board.

[FR Doc. 2012-21347 Filed 8-29-12; 8:45 am]

BILLING CODE 3510-DS-P